ENVIRONMENTAL PROTECTION AGENCY

[FRL-6587-2]

Notice of Availability of the Project XL Proposed Final Project Agreement: Naval Station Mayport Project—Beneficial Reuse of Dredged Material; Regulatory Reinvention (XL) Pilot Projects

AGENCY: Environmental Protection Agency.

ACTION: Notice of availability of the Project XL Proposed Final Project Agreement: Naval Station Mayport Project—Beneficial Reuse of Dredged Material.

SUMMARY: EPA is requesting comments on a proposed Project XL Final Project Agreement (FPA) for Naval Station Mayport (hereafter “NS Mayport”). The FPA is a voluntary agreement developed collaboratively by NS Mayport, the Jacksonville District of the U.S. Army Corps of Engineers (COE), the Florida Department of Environmental Protection (DEP), the City of Jacksonville (Jacksonville) and EPA. Project XL, announced in the Federal Register on May 23, 1995 (60 FR 27282), gives regulated entities the flexibility to develop alternative strategies that will replace or modify specific regulatory or procedural requirements on the condition that they produce greater environmental benefits. EPA has set a goal of implementing fifty XL projects undertaken in full partnership with the states.

In order to maintain operations at NS Mayport, 600,000 cubic yards of sediment must be dredged every 18-24 months from the facility's entrance channel and turning basin. Since 1993, NS Mayport has been disposing of this material into the ocean. To reduce and eventually eliminate ocean disposal, NS Mayport proposes to use this excess dredged material as the foundation for the production of construction blocks and artificial reef material. Initially, the dredged material for construction of the building blocks and the artificial reef material will be derived from two existing upland holding sites. In the future, the dredged material will come (either directly or indirectly through temporary storage at the upland holding sites) from the facility's maintenance dredging projects thereby eliminating the need for ocean disposal of this material. By the year 2020, NS Mayport has estimated that without this project, it will have disposed of approximately ten (10) million cubic yards of dredged material into the ocean. Additionally, NS Mayport is considering use of excess flyash produced by Jacksonville's electrical generating plant as a solidification material for the construction blocks. No flyash will be used to make materials for artificial reefs.

In order for NS Mayport to dredge its entrance channel and turning basin, and dispose of the material into the ocean, it is required to obtain two permits from the COE: a Section 10 permit for dredging and a Section 103 permit for ocean disposal. COE 103 permits for ocean disposal are subject to EPA concurrence. NS Mayport is also required to obtain from Florida DEP an Environmental Resource Permit and any associated Sovereign Submerged Land authorizations. As noted above, NS Mayport is currently required to obtain three permits, with three different time-lines, to dredge and dispose of its maintenance dredged material. This creates a confusing process during the permit's renewal and public comment periods. Through Project XL, NS Mayport is asking EPA to participate in a partnership with COE, Florida DEP, Jacksonville, and interested Stakeholders to synchronize the dredging and ocean disposal permitting process. The COE regulations state that ocean disposal permits will not exceed three (3) years. These regulations, however, allow the COE district engineer to grant permit extensions. Though the regulations allow extensions, EPA Region 4 and the Jacksonville District of the COE do not have procedures for such extensions. This Project establishes procedures for EPA Region 4 and the Jacksonville District of the COE by proposing a five-year (5) permit sequence, consisting of a three-year (3) permit with a two-year (2) permit extension when appropriate.

This XL project has no bearing on the separate discussions surrounding the Agency's final regulatory determination for flyash. Further, this Federal Register Notice is not soliciting comments on the Agency's final regulatory determination for flyash. NS Mayport is not seeking any relief from regulatory requirements, including any that may result from EPA action pursuant to the regulatory determination for flyash.

DATES: The period for submission of comments ends on May 22, 2000.

ADDRESSEES: All comments on the proposed Final Project Agreement should be sent to: Ms. Michelle Glenn, US EPA, Region 4, 61 Forsyth Street, Atlanta, GA 30303, or Ms. Lisa Reiter US EPA, Ariel Rios Building, Mail Code 1802, 1200 Pennsylvania Avenue, NW, Washington, DC 20460. Comments may also be faxed to Michelle Glenn (404) 562-8063 or Lisa Reiter (202) 260-3125. Comments may also be received via electronic mail sent to: glenn.michelle@epa.gov or reiter.lisa@epa.gov.

FOR FURTHER INFORMATION: To obtain a copy of the Project Fact Sheet or the proposed Final Project Agreement, contact: Michelle Glenn, US EPA, Region 4, 61 Forsyth Street, Atlanta, GA 30303, or Lisa Reiter, US EPA, Mail Code 1802, Ariel Rios Building, 1200 Pennsylvania Avenue, NW, Washington, DC 20460. The FPA and related documents are also available via the Internet at the following location: http://www.epa.gov/ProjectXL. In addition, the proposed FPA will be available at the Beaches Branch Public Library—600 Third St., Neptune Beach, FL. Questions to EPA regarding the documents can be directed to Michelle Glenn at (404) 562-8674 or Lisa Reiter at (202) 260-9041. To be included on the NS Mayport Project XL mailing list about future public meetings, XL progress reports and other mailings from NS Mayport on the XL project, contact Cheryl Mitchell, Environmental Director, NS Mayport, Mayport, FL 32228-0067 or (904) 270-6730. For information on all other aspects of the XL Program, contact Christopher Knopes at the following address: Office of Policy and Reinvention, US EPA, Mail Code 1802, Ariel Rios Building, 1200 Pennsylvania Avenue, NW, Washington, DC 20460. Additional information on Project XL, including documents referenced in this notice, other EPA policy documents related to Project XL, regional XL contacts, application information, and descriptions of existing XL projects and proposals, is available via the Internet at http://www.epa.gov/ProjectXL.

Dated: April 25, 2000.
Elizabeth A. Shaw,
Deputy Associate Administrator, Office of Reinvention Programs.

[FR Doc. 00-10766 Filed 4-28-00; 8:45 am]

BILLING CODE 6560-50-P